DEPARTMENT OF ENERGY

Federal Energy Regulatory Commission

[Docket No. RP01-251-001]

TransColorado Gas Transmission Company; Notice of Compliance Filing

April 18, 2001.

Take notice that on April 12, 2001, TransColorado Gas Transmission Company (TransColorado) tendered for filing as part of its FERC Gas Tariff, Original Volume No. 1, the following tariff sheets, to be effective April 1, 2001:

Substitute Sixth Revised Sheet No. 247

Substitute Second Revised Sheet No. 247A

Original Sheet No. 247B

TransColorado states that the filing is being made in compliance with the Commission's March 28, 2001, ordered in Docket No. RP01-251-000.

On March 28, 2001, the Commission issued an order in Docket No. RP01-251-000 approving TransColorado's annual Fuel Gas Reimbursement Percentage report for filing and accepting tariff sheets to be effective April 1, 2001, subject to TransColorado filing modifications to clarify that TransColorado will be at risk for lost and unaccounted-for gas properly allocable to pre-March 31, 2001, shippers on TransColorado's Phase I facilities. In addition, a section reference was corrected. TransColorado stated that this filing reflects the modifications required by the Commission's order.

TransColorado states that a copy of this filing has been served upon TransColorado's customers, the Colorado Public Utilities Commission and New Mexico Public Utilities Commission.

Any person desiring to protest said filing should file a protest with the Federal Energy Regulatory Commission, 888 First Street, NW., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-10044 Filed 4-23-01; 8:45 am]

BILLING CODE 6717-01-M